NATIONAL SCIENCE FOUNDATION

Proposal Review Panel for Materials Research; Notice of Meeting

In accordance with the Federal Advisory Committee Act (Pub. L. 92-463 as amended), the National Science Foundation announces the following meeting:

Name: Site Visit review of the Materials Research Science and Engineering Center (MRSEC) at the University of Wisconsin—Madison by NSF Division of Materials Research (DMR) #1203.

Dates & Times: March 15, 2013. 7:45 a.m.-5:00 p.m.

Place: University of Wisconsin—Madison, Madison, WI.

Type of Meeting: Part-open.

Contact Person: Dr. Sean L. Jones, Program Director, Materials Research Science and Engineering Centers Program, Division of Materials Research, Room 1065, National Science Foundation, 4201 Wilson Boulevard, Arlington, VA 22230, Telephone (703) 292-2986.

Purpose of Meeting: To provide advice and recommendations concerning further support of the MRSEC at the University of Wisconsin at Madison.

Agenda: Friday, March 15, 2013

7:45 a.m.-9:00 a.m. Closed—Executive Session

9:00 a.m.-4:15 p.m. Open—Review of the Wisconsin MRSEC

4:15 p.m.-5:00 p.m. Closed—Executive Session

Reason for Closing: The work being reviewed may include information of a proprietary or confidential nature, including technical information; financial data, such as salaries and personal information concerning individuals associated with the proposals. These matters are exempt under 5 U.S.C. 552b(c), (4) and (6) of the Government in the Sunshine Act.

Dated: February 14, 2013.
Susanne Bolton,
Committee Management Officer.

[FR Doc. 2013-03811 Filed 2-19-13; 8:45 am]

BILLING CODE 7555-01-P